DEPARTMENT OF THE INTERIOR

National Park Service

Notice of Intent to Repatriate Cultural Items: U.S. Department of the Interior, National Park Service, Hawaii Volcanoes National Park, Hawaii National Park, HI

AGENCY: National Park Service, Interior.

ACTION: Notice.

Notice is here given in accordance with the Native American Graves Protection and Repatriation Act (NAGPRA), 25 U.S.C. 3005, of the intent to repatriate cultural items in the possession of the U.S. Department of the Interior, National Park Service, Hawaii Volcanoes National Park, Hawaii National Park, HI, that meet the definition of “unassociated funerary objects” under 25 U.S.C. 3001.

This notice is published as part of the National Park Service's administrative responsibilities under NAGPRA, 25 U.S.C. 3003 (d)(3). The determinations in this notice are the sole responsibility of the superintendent, Hawaii Volcanoes National Park.

In 1905, five funerary objects were removed from Forbes Cave in Hawaii County, HI, by David Forbes, William Wagner, and Frederich Haenisch. The whereabouts of the human remains that were in the cave is unknown. On March 14, 1956, the five items were donated to Hawaii National Park, now known as Hawaii Volcanoes National Park, by Forbes' daughter, Blodwin Forbes Edmondson. The five unassociated funerary objects are one carved wooden female image, one game board or table, one cutting tool made from a human clavicle, one gourd water bottle with shell stopper, and one wrist ornament made of rock oyster, and are Native Hawaiian in origin.

Claims based on cultural affiliation were received by Hawaii Volcanoes National Park from the Department of Hawaiian Homelands, Hawaii Island Burial Council, Hoohuli Ohana, Hooulu Lahui, Hui Malama I Na Kupuna O Hawai'i Nei, Ka Ohana Ayau, Keaweamahi Ohana, Kekumano Ohana, Laika-a-Mauia Ohana, Na Lei Alii Kawananakoa, Na Papa Kanaka O Pu'ukohola Heiau, Office of Hawaiian Affairs, Royal Hawaiian Academy of Traditional Arts, and Van Horn Diamond Ohana. Each qualifies as a Native Hawaiian organization under NAGPRA, pursuant to 25 U.S.C. 3001(11), and each is entitled to claim and receive the five unassociated funerary objects. Hawaii Volcanoes National Park is unable to determine which requesting party is the most appropriate claimant.

Officials of Hawaii Volcanoes National Park have determined that, pursuant to 25 U.S.C. 3001 (3)(B), the five cultural items described above are reasonably believed to have been placed with or near individual human remains at the time of death or later as part of the death rite or ceremony and are believed, by a preponderance of the evidence, to have been removed from a specific burial site of a Native American individual. Officials of Hawaii Volcanoes National Park also have determined that, pursuant to 25 U.S.C. 3001 (2), there is a relationship of shared group identity that can be reasonably traced between the unassociated funerary objects and the Department of Hawaiian Homelands, Hawaii Island Burial Council, Hoohuli Ohana, Hooulu Lahui, Hui Malama I Na Kupuna O Hawai'i Nei, Ka Ohana Ayau, Keaweamahi Ohana, Kekumano Ohana, Laika-a-Mauia Ohana, Na Lei Alii Kawananakoa, Na Papa Kanaka O Pu'ukohola Heiau, Office of Hawaiian Affairs, Royal Hawaiian Academy of Traditional Arts, and Van Horn Diamond Ohana. Lastly, officials of Hawaii Volcanoes National Park have determined that, pursuant to 43 CFR 10.10 (c)(2), the park cannot determine by the preponderance of the evidence which requesting party is the most appropriate claimant and will retain the unassociated funerary objects until the Department of Hawaiian Homelands, Hawaii Island Burial Council, Hoohuli Ohana, Hooulu Lahui, Hui Malama I Na Kupuna O Hawai'i Nei, Ka Ohana Ayau, Keaweamahi Ohana, Kekumano Ohana, Laika-a-Mauia Ohana, Na Lei Alii Kawananakoa, Na Papa Kanaka O Pu'ukohola Heiau, Office of Hawaiian Affairs, Royal Hawaiian Academy of Traditional Arts, and Van Horn Diamond Ohana mutually agree upon the appropriate recipient or the dispute is otherwise resolved pursuant to NAGPRA or as ordered by a court of competent jurisdiction.

Representatives of any other Native Hawaiian organization that believes itself to be culturally affiliated with the unassociated funerary objects should contact Cindy Orlando, superintendent, Hawaii Volcanoes National Park, Hawaii National Park, HI 96718, telephone (808) 985-6025, before April 13, 2009. Repatriation of the unassociated funerary objects to the Department of Hawaiian Homelands, Hawaii Island Burial Council, Hoohuli Ohana, Hooulu Lahui, Hui Malama I Na Kupuna O Hawai'i Nei, Ka Ohana Ayau, Keaweamahi Ohana, Kekumano Ohana, Laika-a-Mauia Ohana, Na Lei Alii Kawananakoa, Na Papa Kanaka O Pu'ukohola Heiau, Office of Hawaiian Affairs, Royal Hawaiian Academy of Traditional Arts, and Van Horn Diamond Ohana may proceed after that date when the affiliated Native Hawaiian organizations have mutually agreed upon a resolution.

Hawaii Volcanoes National Park is responsible for notifying the Department of Hawaiian Homelands, Hawaii Island Burial Council, Hoohuli Ohana, Hooulu Lahui, Hui Malama I Na Kupuna O Hawai'i Nei, Ka Ohana Ayau, Keaweamahi Ohana, Kekumano Ohana, Laika-a-Mauia Ohana, Na Lei Alii Kawananakoa, Na Papa Kanaka O Pu'ukohola Heiau, Office of Hawaiian Affairs, Royal Hawaiian Academy of Traditional Arts, and Van Horn Diamond Ohana that this notice has been published.

Dated: January 29, 2009
Sherry Hutt,
Manager, National NAGPRA Program.

[FR Doc. E9-5331 Filed 3-11-09; 8:45 am]

BILLING CODE 4312-50-S